SMALL BUSINESS ADMINISTRATION

[Declaration of Disaster #3386]

State of Arkansas (And contiguous counties in Mississippi and Tennessee)

Crittenden and Desha Counties and the contiguous counties of Arkansas, Chicot, Cross, Drew, Lee, Lincoln, Mississippi, Phillips, Poinsett and St. Francis Counties in the State of Arkansas; Bolivar, Coahoma, DeSoto and Tunica Counties in the State of Mississippi; and Shelby and Tipton Counties in the State of Tennessee constitute a disaster area as a result of severe storms and flooding that occurred from November 27 through November 30, 2001. Applications for loans for physical damage as a result of this disaster may be filed until the close of business on February 11, 2002 and for economic injury may be filed until the close of business on September 11, 2002 at the address listed below or other locally announced locations: U.S. Small Business Administration, Disaster Area 3 Office, 4400 Amon Carter Blvd., Suite 102, Ft. Worth, TX 76155.

The interest rates are:

| Percent
For Physical Damage:
Homeowners with credit available elsewhere | 6.500
Homeowners without credit available elsewhere | 3.250
Businesses with credit available elsewhere | 8.000
Businesses and non-profit organizations without credit available elsewhere | 4.000
Others (including non-profit organizations) with credit available elsewhere | 6.375
For Economic Injury:
Businesses and small agricultural cooperatives without credit available elsewhere | 4.000

The numbers assigned to this disaster for physical damage are 338611 for Arkansas; 338711 for Mississippi; and 338811 for Tennessee. The numbers assigned to this disaster for economic injury are 9N8100 for Arkansas; 9N8200 for Mississippi; and 9N8300 for Tennessee.

(Catalog of Federal Domestic Assistance Program Nos. 59002 and 59008)
Dated: December 11, 2001.
Hector V. Barreto,
Administrator.

[FR Doc. 01-31099 Filed 12-17-01; 8:45 am]

BILLING CODE 8025-01-U